DEPARTMENT OF THE INTERIOR

Fish and Wildlife Service

[FWS-R4-R-2008-N0014; 40136-1265-0000-S3]

Pee Dee National Wildlife Refuge, Anson and Richmond Counties, NC

AGENCY: Fish and Wildlife Service, Interior.

ACTION: Notice of availability: draft comprehensive conservation plan and environmental assessment; request for comments.

SUMMARY: We, the Fish and Wildlife Service, announce the availability of a draft comprehensive conservation plan and environmental assessment (Draft CCP/EA) for Pee Dee National Wildlife Refuge for public review and comment. In this Draft CCP/EA, we describe the alternative we propose to use to manage this refuge for the 15 years following approval of the Final CCP. The primary purpose of this 8,443-acre refuge is to protect migratory birds. Major habitats include bottomland hardwoods, upland pine forests, mixed pine-hardwoods, croplands, grasslands/old fields, managed wetlands, and open water. The refuge also has 1,306 acres in a conservation easement.

Significant issues identified by the public, intergovernmental partners, and the Service include: Need for comprehensive wildlife and habitat management; lack of baseline data; threats to threatened, endangered, and imperiled species; impacts of increasing human population; need for increased partnerships and interagency coordination; spread of exotic species; impacts to water quantity and quality; need for improved environmental education and interpretation; need for a cultural resource management plan; and the need for maintaining quality hunting, fishing, and other wildlife-dependent public use activities.

DATES: To ensure consideration, we must receive your written comments by May 22, 2008. We will hold a public meeting. We will announce the upcoming meeting in the local news media.

ADDRESSES: Requests for copies of the Draft CCP/EA should be addressed to: Jeffrey Bricken, Refuge Manager, Pee Dee National Wildlife Refuge, 5770 U.S. Highway 52 North, Wadesboro, NC 28170. The Draft CCP/EA may also be accessed and downloaded from the Service's Internet Web site http://southeast.fws.gov/planning. Comments on the Draft CCP/EA may be submitted to the above address or via electronic mail to Jeffrey_bricken@fws.gov.

FOR FURTHER INFORMATION CONTACT: Jeffrey Bricken at 704/694-4424.

SUPPLEMENTARY INFORMATION:

Introduction

With this notice, we continue the CCP process for Pee Dee National Wildlife Refuge. We started the process through a notice in the Federal Register on November 7, 2006 (71 FR 65122).

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

CCP Alternatives, Including Our Proposed Alternative

We developed three alternatives for managing the refuge and chose Alternative C as the proposed alternative.

Alternatives

A full description of each alternative is in the Draft CCP/EA. We summarize each alternative below.

Alternative A: Current Management (No Action)

Wildlife and habitat management on the refuge would stay at current levels. We would continue to survey, maintain habitats, and limit disturbance to threatened and endangered species, including the red-cockaded woodpecker and the Schweinitz's sunflower, as well as State-listed species. We would minimize erosion and runoff to protect stream/diadromous fishes and freshwater mussels. We would survey, monitor, and maintain habitat to benefit migratory birds, including waterfowl, shorebirds, wading birds, and landbirds. Impoundments would be drained annually to control aquatic weeds. There would be incidental feral hog control as part of the deer hunt, but no coyote management. Forest management activities would maintain upland pine and bottomland hardwood habitats. We would manage 300 acres of flooded crop impoundments, moist-soil units, and a greentree reservoir. Approximately 1,200 acres of croplands would be farmed under a cooperative program.

Management of warmwater fish species on the refuge would be limited to a survey performed by partners, but there would be no management of herpetological species. Management of water quantity would include monitoring and controlling water levels in impoundments and the greentree reservoir. In addition, we would provide minimum flow requirements for the Pee Dee River to Progress Energy during Federal relicensing meetings for two Pee Dee River dams. There would be no active management for water quality on the refuge. Resource protection would be maintained at current levels. We would seek to acquire land from willing sellers within the approved refuge acquisition boundary. Approximately 1,300 acres would continue to be protected in easement. Conservation gaps and corridors would not be addressed. Law enforcement patrols would protect historical and archaeological resources.

The visitor services' program would continue at the current level. Deer/feral hog, turkey, and small-game hunting opportunities would be maintained at current levels. No waterfowl hunting would be permitted. Fishing opportunities would be maintained. As part of wildlife observation and photography, we would maintain a 2.75-mile wildlife drive, three hiking trails (3.5 miles total), ~25 miles of public gravel roads, and an observation blind. Horseback riding would continue on public roads via special use permits. We would conduct 28 environmental and interpretive programs annually. Friends Group membership and volunteer levels would remain the same.

The refuge staff presently consists of five positions: Refuge manager, assistant refuge manager, office assistant, engineering equipment operator, and park ranger. The assistant refuge manager position is scheduled for abolishment under Alternative A. There would be limited intergovernmental coordination under this alternative.

Alternative B: Migratory Bird Emphasis

We would focus management on the needs of trust resources (i.e., listed species and migratory birds). We would increase habitat restoration efforts to support these species, and more areas would be seasonally closed to limit their disturbance. Survey and monitoring efforts for stream/diadromous fishes and freshwater mussels would increase, and we would work with partners to protect upstream lands in the watershed for priority aquatic species. A water quality program would be implemented. Management of migratory birds would be increased as the moist-soil unit acreage would be expanded. Exotic species control would benefit trust species. Upland and bottomland forest management would focus on the needs of listed species and migratory birds. Cropland acreage would be reduced to make way for old fields planted with native warm season grasses. We would work with partners to conduct herpetological and fish surveys, and to ensure that water quantities and qualities support trust species.

Under this alternative, resource protection efforts would increase. Land acquisition and archaeological resource efforts would be the same as under Alternative A. However, we would work with partners to identify conservation gaps and wildlife corridors to protect listed species and migratory birds. GIS databases would be established for easement properties to evaluate their contribution to listed species' objectives.

Visitor services would be increased. If needed, we would consider implementing a specific hunt program for feral hogs to control their population. Fishing opportunities would be the same as under Alternative A. We would seasonally close key areas to the public to limit disturbance to trust species, but would install additional photo-blinds and work to improve boat access to the Pee Dee River. We would develop on- and off-site education and interpretive programs, focusing messages on trust resources and the minimization of human impacts. We would work to acquire an environmental education facility. We would train staff, volunteers, and teachers to incorporate interpretive themes into programs. Friends Group membership and volunteer levels would be increased and focused on the needs of listed species and migratory birds.

Administration would expand with increased staffing levels; the following staff would be required in addition to the current staff: Assistant refuge manager (position scheduled for abolishment under Alternative A), biologist, forestry technician, maintenance worker (2), and park ranger.

Alternative C: Biodiversity and Biological Integrity Emphasis (Proposed Alternative)

We would emphasize wildlife and habitat diversity, with management activities being expanded. Habitats would be improved to support listed species. Some key areas would be seasonally closed to the public to limit disturbance to threatened, endangered, and imperiled species. Survey and monitoring efforts for stream/diadromous fishes and freshwater mussels would be increased. We would work with partners to protect upstream watershed areas outside the refuge, and a water quality program would be implemented to further protect priority aquatic species. We would document the presence or absence of Schweinitz's sunflower on the refuge and establish populations. For migratory birds, we would intensively survey and monitor and would increase the acreage of moist-soil units. Sweetgum trees would be thinned in areas of the bottomland hardwood forest to favor mast-producing species.

Exotic species control efforts would focus on maintaining biodiversity. If needed, a specific feral hog hunt would be implemented to reduce the impacts of this invasive species to refuge biodiversity. We would work with the State to determine the impacts of coyotes. Upland habitats would be managed for biodiversity and GIS databases would be developed for these areas. Some flooded crop impoundments would be replaced with moist-soil units to increase multi-species use. Additional acreage of grassy fields would be planted with native warm season species. Cooperative farming would be maintained at current levels. Herpetological and fish surveys and monitoring efforts would increase, and we would ensure that management practices do not adversely impact these species.

Under the proposed action, resource protection efforts would be expanded. Signage along the refuge boundary would be maintained, and we would seek to acquire land from willing sellers within the approved acquisition boundary. We would develop GIS databases for easements and ensure that they are managed according to refuge biodiversity objectives. We would work with partners to protect conservation gaps and corridors to support wildlife and habitat diversity.

We would expand visitor services. Turkey hunting would be expanded to include areas in Richmond County. Deer hunting opportunities would be increased. Small game hunting opportunities would remain the same. We would implement quail population monitoring to determine the number of hunting days and bag limits. To improve fishing opportunities, we would increase boat access to the Pee Dee River and consider additional stocking of fish in refuge ponds. Three additional photo-blinds would be installed, and we would evaluate the potential for additional birding trails. We would continue to allow horseback riding on public roads via special use permits. We would develop on- and off-site education and interpretive programs with messages focused on biodiversity and the minimization of human impacts. We would train staff, volunteers, and teachers to incorporate interpretive themes into programs. An on-site environmental education center would be built. We would develop an outreach plan to increase awareness of the archaeological and historical resources on the refuge. We would increase and focus Friends Group and volunteer efforts to support wildlife and habitat diversity. Administration would expand to include maintenance programs in support of biodiversity and biological integrity. In addition to current staff, we would add the following positions over the 15-year life of the CCP: Assistant refuge manager (position scheduled for abolishment under Alternative A), biologist, forestry technician, maintenance worker (2), and park ranger.

Public Availability of Comments

Before including your address, phone number, e-mail address, or other personal identifying information in your comment, you should be aware that your entire comment, including your personal identifying information, may be made publicly available at any time. While you can ask us in your comment to withhold your personal identifying information from public review, we cannot guarantee that we will be able to do so.

Next Step

After the comment period ends for the Draft CCP/EA, we will analyze the comments and address them in the form of a Final CCP and Finding of No Significant Impact.

Authority: This notice is published under the authority of the National Wildlife Refuge System Improvement Act of 1997, Public Law 105-57.

Dated: December 31, 2007.
Jon Andrew,
Acting Regional Director.

Editorial Note: This document was received at the Office of the Federal Register on April 16, 2008.

[FR Doc. E8-8618 Filed 4-21-08; 8:45 am]

BILLING CODE 4310-55-P